DEPARTMENT OF AGRICULTURE

Forest Service

Bridger-Teton National Forest; Wyoming; Proposed Summer Designated Road and Motorized Trail System

AGENCY: Forest Service, USDA.

ACTION: Notice of intent to prepare an environmental impact statement.

SUMMARY: The Bridger-Teton National Forest is preparing an Environmental Impact Statement for a proposed May 1st to December 1st designated road and motorized trail system for portions of the Buffalo, Jackson, and Big Piney Ranger Districts where cross-country motorized use is currently allowed. This scoping proposal complies with the 2005 National Off-Highway Vehicle (OHV) Rule which requires all wheeled motorized travel to occur on designated routes. The full text of the proposal plus maps showing the proposed designated road and motorized trail system are posted in the Bridger-Teton National Forest Web site at http://www.fs.fed.us/r4/btnf.

DATES: Comments concerning the scope of the analysis are requested by January 29, 2007. The draft environmental impact statement is expected in September 2007 and the final environmental impact statement is expected in January 2008.

ADDRESSES: Send written comments to “North Zone Travel Management”; Bridger-Teton National Forest, PO Box 1689, Jackson, WY 83001. Comments may also be faxed to (307) 739-5450. E-mail comments can be submitted via a link for “North Zone Travel Plan Revision” on the Bridger-Teton National Forest Web site: http://www.fs.fed.us/r4/btnf.

FOR FURTHER INFORMATION CONTACT: David Wilkinson, North Zone Travel Project, Bridger-Teton National Forest, PO Box 1689, Jackson, WY 83001 (307-739-5544).

SUPPLEMENTARY INFORMATION:

Purpose and Need for Action

Off-highway vehicle (OHV) use within portions of the Bridger-Teton National Forest is not being managed in a manner consistent with current Forest Plan direction and the National OHV Rule, nor in a manner that is consistent with land capability, public safety and enjoyment by all Forest users. The current travel plan for the north zone of the Bridger-Teton National Forest was developed in 1987 prior to technological advances that transformed all-terrain vehicle (ATV) and motorcycle use on public lands. Motorized use has a long history on the Forest and is a legitimate use in appropriate places. However, unmanaged OHV use has caused a proliferation of user-created trails that are not sustainable, has damaged wet meadows, soils, and stream channels, and results in wildlife disturbance. Additionally, unmanaged OHV use has caused social problems such as disrupting hunting opportunities, spooking horse riders creating potential safety concerns, and disrupting grazing operations. By providing clear direction on where motorized use is allowed via a designated OHV route system, the potential for resource damage and violations can be reduced while better serving public needs and improving the ability to maintain roads and trails. With this in mind, the goal for this project is to improve management of OHV use by identifying and analyzing changes needed to the current system of Forest roads and motorized trails within areas where motorized use is currently unrestricted. The resulting designated road and trail system must comply with Forest Plan direction and meet the following objectives: (1) Reduce resource impacts, (2) provide a viable road and trail system to meet public needs, and (3) improve the ability to enforce travel restictions and maintain routes.

Proposed Action

To meet the project goal and objectives, changes are being proposed to the current system of roads and motorized trails. No new roads or motorized trails are proposed to be constructed. However, the proposal does include adding some roads and motorized trails that exist on the ground but are not currently part of the Forest Service system. Likewise, some roads that currently are on the Forest Service system are proposed to be closed or changed to allow only vehicles 50″ or less in width. As the final designated road and trail system is implemented, sections of road or motorized trails will need to be re-constructed to improve sustainability and mitigate resource damage. The proposed designated road and motorized trail system totals 404 miles within the areas where motorized use is currently unrestricted. This is roughly equivalent to the mileage that is currently on the Forest Service system, however the proposal includes 37 more miles of motorized trail and 46 fewer miles of road.

Responsible Official

Districts Rangers for the three ranger districts will be making the decision about the designated road and motorized trail system on their respective districts. Elizabeth Brann, District Ranger, Buffalo Ranger District; PO Box 278; Moran, WY 83013. Nancy Hall, District Ranger, Jackson Ranger District, PO Box 1689, Jackson, WY 83001. Greg Clark, District Ranger, Big Piney Ranger District, PO Box 218, Big Piney, WY 83113.

Nature of Decision To Be Made

Based on the environmental analysis and public input, a decision will be made whether or not to implement the proposed changes to the road and motorized trail system or to implement an alternative. The decision for the designated road and motorized trail system will be displayed on a motor vehicle use map that conforms to a nationally consistent format and is updated annually.

Scoping Process

The purpose of scoping is to invite your comments on this proposal. Your comments will be used to identify significant issues so that alternative proposals can be developed and analyzed. This process is used to provide the best information possible to inform the public and decision-makers about trade-offs associated with alternative ways to meet the project purpose.

Preliminary Issues

The following preliminary issues have been identified. Other issues raised during the public scoping process will also be addressed in the EIS.

• Effects on wildlife including threatened, endangered, and sensitive species.

• Effects on opportunities for quiet, non-motorized recreation.

• Effects on hunting opportunities.

• Effects on opportunities for motorized recreation.

• Effects on roadless areas.

• Effects on wetlands, streambanks, and water quality.

• Effects on soils, cultural resources, and vegetation.

• Effects on management of the motorized system including maintenance, signing, and enforcement.

Comment Requested

This notice of intent initiates the scoping process which guides the development of the environmental impact statement. Information about the project is posted on the Bridger-Teton National Forest Web site at http://www.fs.fed.us/r4/btnf. Large maps showing the proposed designated road and motorized trail system are available at the Supervisor's Office, at Ranger District Offices, and at the Teton County Library in Jackson, Wyoming. Agency personnel are available to meet with any interested individuals or groups about this project.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21).

Dated: December 27, 2006.
Nancy Hall,
Jackson District Ranger.

[FR Doc. E6-22575 Filed 1-4-07; 8:45 am]

BILLING CODE 3410-11-P